DEPARTMENT OF TRANSPORTATION

Federal Aviation Administration

Adoption of Environmental Assessment for Long Range Discrimination Radar Performance Testing, Clear Air Force Station, Alaska, and Finding of No Significant Impact and Record of Decision for Temporary Flight Restrictions.

AGENCY: Federal Aviation Administration (FAA), Department of Transportation.

ACTION: Notice of availability.

SUMMARY: This notice announces the availability of the FAA's Adoption of Missile Defense Agency Environmental Assessment for Long Range Discrimination Radar (LRDR) Performance Testing, Clear Air Force Station (CAFS), Alaska, and Finding of No Significant Impact and Record of Decision for Temporary Flight Restrictions in the Vicinity of CAFS for LRDR Performance Testing. This document sets forth: (1) The FAA's adoption of the Missile Defense Agency's (MDA) Environmental Assessment for Long Range Discrimination Radar (LRDR) Performance Testing, Clear Air Force Station (CAFS), Alaska; (2) the FAA's finding that no significant environmental effects would result from two proposed temporary flight restrictions (TFRs) the FAA would issue to protect aviation from high-intensity radiated fields generated during the LRDR performance testing; and (3) the FAA's decision to approve the TFRs.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

MDA prepared a Final Environmental Assessment (FEA) for performance testing of a LRDR at CAFS, Alaska. The FEA includes analysis of the potential environmental effects of two TFRs that would be issued by the FAA pursuant to Title 14, Code of Federal Regulations, Section 99.7, Special Security Instructions, to protect aviation from high-intensity radiated fields generated by the LRDR during the testing. MDA provided a Preliminary FEA for public review from May 4, 2020, to June 2, 2020, and three comments were received. The FEA was issued in July 2020, and MDA and the Department of the Air Force (DAF) issued their Finding of No Significant Impact (FONSI) on July 24, 2020.¹

¹ The FEA and the MDA/DAF FONSI are posted on MDA's website at https://www.mda.mil/system/lrdr/.

The LRDR performance testing would occur for 16 hours a day (specific times to vary by time of year) for 12 to 18 months. During the testing hours, the larger of the two TFRs, which would apply in an area defined as Zone 1 in the FEA, would be continuous (active every day during the testing period); and the other TFR, which would apply in an area defined as in Zone 2 in the FEA, would be non-continuous, active for two hours a day (Tuesdays, Thursdays, and Saturdays, from 2:00 a.m. to 4:00 a.m. local Alaska time). During the activation hours of the TFRs, the existing instrument flight rules arrival and departure procedures at Healy River Airport, and emergency aircraft and medical evacuation flights into and out of Clear Airport, would be available through processes defined in a Letter of Agreement between MDA, CAFS, and the FAA. Also, the FAA would provide notice (via Notices to Airmen [NOTAMs]) of: (1) The unavailability of affected approach procedures at Ted Stevens Anchorage International Airport (ANC); and (2) the unavailability of affected portions of airways V-436 and J-125.

In accordance with regulations of the Council on Environmental Quality (CEQ) implementing the National Environmental Policy Act of 1969 (NEPA), and FAA Order 1050.1F, Environmental Impacts: Policies and Procedures, the FAA participated as a cooperating agency on the FEA. In that capacity, the FAA coordinated closely with MDA, provided subject matter expertise, and participated actively in the FEA's preparation.

Consistent with CEQ guidance, FAA Order 1050.1F provides that the FAA may adopt another agency's Environmental Assessment (EA) for the purpose of compliance with NEPA. To do so, the FAA must determine, based on an independent evaluation, that the other agency's EA: (1) Adequately addresses the FAA's action; and (2) meets the applicable standards in FAA Order 1050.1F and CEQ's regulations implementing NEPA.

After independently evaluating the FEA, the FAA has determined that the document adequately addresses the proposed TFRs and meets the applicable standards in FAA Order 1050.1F and CEQ's regulations implementing NEPA. Accordingly, the FAA has adopted the FEA. Based on the information and analysis in the FEA, the FAA has found that the TFRs would not significantly affect the human environment and therefore do not require preparation of an environmental impact statement under NEPA. After considering this and other relevant factors, the FAA has decided to approve the TFRs.

Notice of Availability

The FAA's adoption of the FEA, its finding of no significant environmental impact, and its decision on the TFRs are documented in Adoption of Missile Defense Agency Environmental Assessment for Long Range Discrimination Radar (LRDR) Performance Testing, Clear Air Force Station, Alaska (CAFS) and Finding of No Significant Impact and Record of Decision for Temporary Flight Restrictions in the Vicinity of CAFS for LRDR Performance Testing (Adoption/FONSI/ROD). This document and the FEA are available upon request by contacting Paula Miller at: Airspace Policy and Regulations Group, Office of Airspace Services, Federal Aviation Administration, 800 Independence Avenue SW, Washington, DC 20591; telephone: (202) 267-7378.

Right of Appeal

The FAA's Adoption/FONSI/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110. Any party seeking to stay implementation of the Record of Decision must file an application with the FAA prior to seeking judicial relief as provided in Rule 18(a) of the Federal Rules of Appellate Procedure.

Issued in Des Moines, WA, on September 3, 2020.
Maria A. Aviles,
Acting Group Manager, Operations Support Group, Western Service Center.

[FR Doc. 2020-19962 Filed 9-9-20; 8:45 am]

BILLING CODE 4910-13-P